DEPARTMENT OF COMMERCE

National Oceanic and Atmospheric Administration

[I.D. 011300A]

Western Pacific Fishery Management Council; Public Meeting

AGENCY: National Marine Fisheries Service (NMFS), National Oceanic and Atmospheric Administration (NOAA), Commerce.

ACTION: Notice of public meeting.

SUMMARY: The Western Pacific Fishery Management Council will hold a meeting of its Fishing Rights of Indigenous People

Advisory Panel to discuss Council issues in relation to indigenous fishing rights in the Western Pacific Region.

DATES: The meeting will be held February 2-4, 2000, from 8:30 a.m. to 5:00 p.m. each day.

ADDRESSES: The meeting will be held at the Council office conference rooms, 1164 Bishop St., Suite 1400, Honolulu, Hawaii; telephone: (808) 522-8220.

Council address: Western Pacific Fishery Management Council, 1164 Bishop St., Suite 1400, Honolulu, HI 96813.

FOR FURTHER INFORMATION CONTACT: Kitty M. Simonds, Executive Director; telephone (808) 522-8220.

SUPPLEMENTARY INFORMATION: The Advisory Panel will discuss and may make recommendations to the Council on the agenda items listed below. The order in which agenda items will be addressed is tentative.

A. Status of Advisory Panel recommendations from previous meeting

B. Status of the eligibility criteria for Community Development Projects and Community Demonstration Program

C. Report on the Draft Coral Reef Ecosystem Fishery Management Plan and preliminary Draft Environmental Impact Statement (EIS)

D. Discussion regarding Northwestern Hawaiian Islands fisheries:

a. Marine Mammal Commission concerns and recommendations

b. Monk Seal Recovery Team concerns and recommendations

c. Fish and Wildlife Service, NMFS, Hawaii Department of Land and Natural Resources concerns

E. Review of public scoping comments for draft EIS on the crustaceans Fishery Management Plan (FMP)

F. Review of public scoping comments for draft EIS on the bottomfish FMP

G. Workshops on green sea turtle take for cultural purposes

H. Pelagic amendment for shark management around Hawaii

I. Draft American Samoa area closure amendment

J. Magnuson-Stevens Fishery Conservation and Management Act reauthorization

K. Review the relationship between the indigenous peoples of the Western Pacific region and the United States

L. Review Ahupuaa method of management

M. Other business

Although non-emergency issues not contained in this agenda may come before this Council for discussion, these issues may not be the subject of formal Council action during this meeting. Council action will be restricted to those issues specifically listed in this document and any issues arising after publication of this document that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Dated: January 13, 2000.
Richard W. Surdi,
Acting Director, Office of Sustainable Fisheries, National Marine Fisheries Service.

[FR Doc. 00-1207 Filed 1-18-00; 8:45 am]

BILLING CODE 3510-22-F